DEPARTMENT OF EDUCATION

Office of Special Education and Rehabilitative Services; Overview Information; Technical Assistance and Dissemination To Improve Services and Results for Children With Disabilities—Model Demonstration Projects on Tiered Approaches for Improving the Writing Proficiency of High School Students; Notice Inviting Applications for New Awards for Fiscal Year (FY) 2009

Catalog of Federal Domestic Assistance (CFDA) Number: 84.326M.

DATES:

Applications Available: July 13, 2009.

Deadline for Transmittal of Applications: August 12, 2009.

Deadline for Intergovernmental Review: August 24, 2009.

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute (see sections 663 and 681(d) of the Individuals with Disabilities Education Act (IDEA), 20 U.S.C. 1400 et seq.).

Absolute Priority: For FY 2009 and any subsequent year in which we make awards from the list of unfunded applicants from this competition, this priority is an absolute priority. Under 34 CFR 75.105(c)(3), we consider only applications that meet this priority.

This priority is:

Technical Assistance and Dissemination to Improve Services and Results for Children With Disabilities—Model Demonstration Projects on Tiered Approaches for Improving the Writing Proficiency of High School Students.

Background

Writing skills are critical to success in both college and the workplace. With the inclusion of a writing portion on college entrance exams, such as the Scholastic Assessment Test (SAT), and the writing requirements in high stakes ¹ high school graduation exams, there is an increased emphasis on writing for all students in high school. Furthermore, college faculty and employers recognize that writing is a skill that students need to succeed in many postschool settings (Alliance for Excellent Education, 2007). Yet, according to the National Assessment of Educational Progress (NAEP), in 2007, despite overall gains in performance on the eighth- and twelfth-grade NAEP Writing assessment, only 33 percent of eighth-grade students and 24 percent of twelfth-grade students scored at or above the proficient level in writing (Salahu-Din, Persky & Miller, 2008). Students with disabilities scored almost 40 points below the scores of all students who participated in the assessment. The NAEP data and recommendations from policymakers (National Association of State Boards of Education, 2006) indicate the need to identify strategies that can improve writing proficiency among high school students.

¹ “High stakes testing” is “the term used for assessments that determine if a student is retained in a grade or allowed to receive a diploma and graduate” (Lynch, 2000, p. 216).

Students who have writing difficulties, including those at risk for and with learning disabilities, may benefit from a variety of instructional interventions, especially those that provide authentic writing opportunities, facilitate the development of self-learning strategies, and allow for extensive peer-to-peer interaction (MacArthur & Graham, 1993). Examining methodologies and interventions that have been effective in other educational settings may assist with developing strategies that can improve writing proficiency among high school students.

In an educational context, schoolwide tiered approaches are sometimes used to improve student learning and behavior. Tiered approaches typically use the following evidence-based components: Universal screening, progress monitoring, high-quality core instruction, and instructional interventions at varying levels of intensity based on students' learning needs. Using a tiered approach, educators monitor student progress and make data-based decisions about curriculum, instructional interventions, and student supports (Johnson, Mellard, Fuchs & McKnight, 2006). In tiered approaches, students' responses to instruction are monitored to identify those students in need of more targeted and customized instruction (Fuchs & Fuchs, 2007).

Educators most commonly implement tiered approaches in elementary schools (Deshler & Kovaleski, 2007; Duffy, n.d.; Johnson & Smith, 2008) and typically incorporate evidence-based instructional interventions related to reading, math, or behavior. Tiered approaches in elementary schools show promise for increasing students' achievement in each of these three areas (Burns, 2008; Canter, Klotz, & Cowan, 2008) and may be applied with writing instruction as well (Hessler & Konrad, 2008). Further, there is evidence that tiered approaches may serve as an impetus for educators to examine the referral process for special education services and promote early identification of children at risk for, or with, learning disabilities, particularly, students with specific learning disabilities (Fuchs & Fuchs, 2007; National Research Center on Learning Disabilities, 2004). Practices inherent in the application of tiered approaches, such as the alignment of expected outcomes, teaching strategies, and assessment, along with the improvement of instructional decisionmaking by educators in both regular and special education that is associated with tiered approaches may also offer secondary benefits for students (Cummings, Atkins, Allison, & Cole, 2008). These benefits include reductions in the frequency of challenging behaviors exhibited by students and enhanced academic engagement (Iovannone & Dunlap, 2006; March & Peters, 2002). Additionally, tiered approaches are characterized by collaboration between regular and special educators and teaching is tailored to student needs because instructional approaches are linked to student achievement (Duffy, n.d.).

Less is known about the potential of these approaches for improving outcomes for high school students. Due to the differences between elementary and secondary school settings (i.e., increased student mobility across classes, variation in student schedules, and increased emphasis on academic content), there is a need for additional work on assessing the effectiveness of tiered approaches for specific content areas in high schools. Further, the field is learning that many of the same strategies used at the elementary level, are also effective, or may be effective, at the secondary level (Heartland Area Education Agency 11, 2004). However, there continues to be a need to identify adaptations that need to be made based upon the high school context. Therefore, the Office of Special Education Programs (OSEP) is establishing a priority for Model Demonstration Projects on Tiered Approaches for Improving the Writing Proficiency of High School Students.

Priority

The purpose of this priority is to fund cooperative agreements to support the establishment and operation of three Model Demonstration Projects on Tiered Approaches for Improving the Writing Proficiency of High School Students (Projects) who have writing difficulties, including those at risk for and with learning disabilities. Each project must design, implement, and evaluate a tiered approach in high schools that incorporates evidenced-based components including screening, progress monitoring, core instruction, and instructional interventions at varying levels of intensity based on students' learning needs. The models must have writing as the core instructional component.

To be considered for funding under this absolute priority, applicants must meet the application requirements contained in this priority. All projects funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project; Note: The following Web site provides more information on logic models and lists multiple online resources: http://www.cdc.gov/eval/resources.htm.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A description of the proposed model (tiered approach), supporting evidence for the model as a whole, and empirical support of the critical evidence-based components, including the writing instruction and interventions that comprise the model;

(e) The methods to be used for recruiting and selecting high schools if the applicant has not identified schools that are willing to participate in the model demonstrations. Applicants must put into place strategies for recruiting low-performing high schools. If the applicant has identified high schools willing to participate in the model demonstrations, also include a description of the demographics of the student population typically served by the schools, including information about the cultural and linguistic diversity of students. The final site selections must be determined in consultation with the OSEP Project Officer following the kick-off meeting;

(f) A budget for attendance at the following:

(1) A one and one half day kick-off meeting to be held in Washington, DC, within four weeks after receipt of the award and a one day annual planning meeting held in Washington, DC, with the OSEP Project Officer during each subsequent year of the project period.

(2) A three-day Project Directors' Conference in Washington, DC, during each year of the project period; and

(3) Two two-day trips annually to attend Department briefings, Department-sponsored conferences, and other meetings, as requested by OSEP.

Project Activities. To meet the requirements of this priority, each Project, at a minimum, must—

(a) In year one of the project, collaborate with the other Projects funded under this competition to conduct a systematic review of the research on:

(1) Tiered approaches, including tiered writing approaches in high school, and their evidence-based components; and

(2) Writing instruction and interventions for high school students. To the extent possible, build on existing research reviews, such as those on tiered approaches conducted by the OSEP-funded National Research Center on Learning Disabilities (http://www.nrcld.org) and use the standards established by the What Works Clearinghouse for identifying evidence-based interventions and practices in the research review (http://ies.ed.gov/ncee/wwc/). If it is not possible to use these standards, other rigorous standards must be used. This work must be completed during the first year of the project and result in a comprehensive description of any evidence on the application of tiered approaches in high schools and writing instruction for high school students;

(b) Implement a model at the high school ninth grade level that:

(1) Includes evidence-based components such as universal screening, progress monitoring, and writing instruction and interventions at varying intensity levels; and

(2) May be adapted to address unique characteristics of the school that may affect writing proficiency, such as the cultural and linguistic diversity of the students.

(c) Adopt a staggered implementation design with longitudinal data collection in at least two high schools (high school A and high school B) using the following approach:

(1) Implement the model in one department in high school A in the fall of year two.

(2) Implement the model in high schools A and B in the fall of year three.

(3) Implement the model in high schools A and B in the fall of year four.

(4) Collect data on the writing proficiency of all students who participated in the model as they move through high school even though the projects will only implement the writing intervention in the ninth grade.

(d) Provide initial and ongoing professional development at the model demonstration sites to regular educators, special educators, related services providers, and administrators who are charged with implementing the model. Ensure that there is a process for providing feedback to these personnel on their implementation of the critical components of the model;

(e) Implement an evaluation plan that includes a detailed description of the model and the critical components of the model, a description of the school and district variables required to implement and sustain the model, and the processes for collecting and analyzing specific project and cross-project data related to the:

(1) Effectiveness of the model to improve student writing proficiency.

(2) Fidelity of the implementation of the model and acceptable variations based on the unique characteristics of schools that may affect writing proficiency, such as the cultural and linguistic diversity of students.

(3) Effectiveness of the professional development provided to personnel implementing the model. Common cross-site data to be collected must be determined in consultation with the OSEP Project Officer following the first cross-project meeting.

(4) Effectiveness of the model to inform the special education referral process.

(f) Identify methods for effectively supporting ongoing communication and collaboration among families, students, school staff, and project staff to support the implementation and evaluation of the model;

(g) Document the effects of the model on additional variables identified by the Project such as changes in student engagement, challenging behaviors, and instructional decisionmaking;

(h) Coordinate with the other Projects funded under this competition and the Model Demonstration Coordination Center (MDCC) to determine a cross-project plan for evaluating the impact of the models. The MDCC is a separate center funded by OSEP that is responsible for coordinating implementation and analyzing data to determine the effectiveness of the models. MDCC will develop a data coordination plan, cross-site data collection instruments, and common evaluation questions. MDCC will also synthesize and analyze data, monitor implementation fidelity, ensure data reliability, and foster information dissemination. As part of cross-site coordination, Projects must collect data across common measures as determined by MDCC that may or may not be the same as those proposed by the applicant. Common measures may include observations or data describing the context of schools, classrooms, or students participating in the project, as well as schools, classrooms, or students who did not participate in the project. The purpose of the data is to provide information on the contexts in which models are implemented and the effectiveness of the models; Note: The following Web site provides more information on the project resource commitments necessary for MDCC collaboration, see section entitled, “Project Resource Commitments” at: http://mdcc.sri.com/projectResourceCommitments.aspx;

(i) Communicate and collaborate on an ongoing basis with OSEP-funded projects, including the National Center on Response to Intervention (http://www.rti4success.org/) and the Center on Instruction (http://www.centeroninstruction.org) to share information on successful strategies and implementation challenges regarding tiered approaches in high schools;

(j) Develop a high-quality dissemination plan that reaches broad audiences including regular educators, special educators, related services providers, administrators, families, policymakers, and researchers.

The plan must specify how the grantee will collaborate with MDCC and with OSEP's Technical Assistance and Dissemination Network;

(k) Submit to the OSEP Project Officer and the Proposed Product Advisory Board at OSEP's Technical Assistance Coordinating Center (TACC), for approval, a proposal describing the content and purpose of any new product prior to development; and

(l) Maintain ongoing communication with the OSEP Project Officer and the MDCC through monthly phone conversations and e-mail communication.

References

Alliance for Excellent Education, (2007, April). Making writing instruction a priority in America's middle and high schools. Alliance for Excellent Education Policy Brief. Washington, DC. Retrieved March 20, 2008 from http://www.all4ed.org/files/WritPrior.pdf.

Burns, M.K. (2008). Response to intervention at the secondary level. Principal Leadership, 8(6), 12-15.

Canter, A., Klotz, M.B., & Cowan, K. (2008). Response to intervention: The future for secondary schools. Principal Leadership, 8(7), 12-15.

Cummings, K.D., Atkins, T., Allison, R. & Cole, C. (2008). Response to intervention: Investigating the new role of special educators. Teaching Exceptional Children, 40(4), 24-31.

Deshler, D. & Kovaleski, J. (2007, December). RTI and secondary education: What are the implications? Conference presentation at the National RTI Summit. Washington, DC.

Duffy, H. (n.d.). Meeting the needs of significantly struggling learners in high school. Retrieved March 20, 2008 from http://www.betterhighschools.org/docs/NHSC_RTIBrief_08-02-07.pdf.

Fuchs, D. & Fuchs, L. (2007). A model for implementing responsiveness to intervention. Teaching Exceptional Children, 39(5), 14-20.

Heartland Area Education Agency 11 (2004, April 1). Heartland AEA 11 annual progress report. Retrieved May 7, 2009 from http://www.aea11.k12.ia.us/downloads/2004apr.pdf.

Hessler, T. & Konrad, M. (2008). Using curriculum-based measurement to drive IEPs and instruction in written expression. Teaching Exceptional Children, 41(2), 28-37.

Iovannone, R. & Dunlap, G. (2006). Curriculum & behavior problems. Alaska Education Service Agency Newsletter. Retrieved March 20, 2008 from http://www.sesa.org/?view=article&catid=112percent3AFall+2002&id=385percent3ACurriculum+&Behavior_Problems:_Cause_=&Effect?=&Itemid=69&option=com_content.

Johnson, E., Mellard, D.F., Fuchs, D., & McKnight, M.A. (2006). Responsiveness to intervention (RTI): How to do it. Lawrence, KS: National Research Center on Learning Disabilities.

Johnson, E. & Smith, L. (2008). Implementation of response to intervention at middle school. Teaching Exceptional Children, 40(3), 46-52.

Lynch, S. J. (2000). Equity and science education reform. Mahwah, NJ: Lawrence Erlbaum Associates. March, J.K. & Peters, K.H. (2002). Curriculum development and instructional design in the effective school process. Phi Delta Kappan, 83(5), 379-381.

MacArthur, C. & Graham, S. (1993). Integrating strategy instruction and word processing into a process approach to writing instruction. School Psychology Review, 22(4), 671-682.

National Association of State Boards of Education. (2006). Reading at risk: The state response to the crisis in adolescent literacy. Retrieved May 5, 2008 from http://nasbe.org/index.php/file-repository?func=finishdown&id=439.

National Research Center on Learning Disabilities. (2004). Executive summary of the NRCLD symposium on responsiveness to intervention [Brochure]. Lawrence, KS: Author.

Salahu-Din, D., Persky, H., and Miller, J. (2008). The nation's report card: Writing 2007 (NCES 2008-468). National Center for Education Statistics, Institute of Education Sciences, U.S. Department of Education, Washington, DC. Retrieved April 6, 2008 from http://nces.ed.gov/pubsearch/pubsinfo.asp?pubid=2008468.

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except Federally recognized Indian Tribes.

Note: The regulations in 34 CFR part 86 apply to institutions of higher education only.

II. Award Information

Type of Award: Cooperative agreements.

Estimated Available Funds: $1,200,000.

Contingent upon the availability of funds and the quality of applications for the competitions announced in this notice, we may make additional awards in FY 2010 from the lists of unfunded applicants from the groups funded in this competition (See section V.2. Review and Selection Process for more information).

Estimated Average Size of Awards: $400,000.

Maximum Award: We will reject any application that proposes a budget exceeding $400,000 for a single budget period of 12 months. The Assistant Secretary for Special Education and Rehabilitative Services may change the maximum amount through a notice published in the Federal Register.

Estimated Number of Awards: 3.

Note: The Department is not bound by any estimates in this notice.

Project Period: Up to 48 months.

III. Eligibility Information

1. Eligible Applicants: State educational agencies; local educational agencies (LEAs), including public charter schools that are considered LEAs under State law; institutions of higher education; other public agencies; private nonprofit organizations; outlying areas; freely associated States; Indian Tribes or Tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this program or competition as follows: CFDA number 84.326M.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition. Page Limit: The application narrative (Part III of the application) is where you, the applicant, address the selection criteria that reviewers use to evaluate your application. You must limit the application narrative to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times: Applications Available: July 13, 2009.

Deadline for Transmittal of Applications: August 12, 2009.

Applications for grants under this competition may be submitted electronically using the Electronic Grant Application System (e-Application) accessible through the Department's e-Grants site, or in paper format by mail or hand delivery. For information (including dates and times) about how to submit your application electronically, or in paper format by mail or hand delivery, please refer to section IV. 6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 24, 2009.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this program may be submitted electronically or in paper format by mail or hand delivery.

a. Electronic Submission of Applications.

If you choose to submit your application to us electronically, you must use e-Application, accessible through the Department's e-Grants Web site page at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application.

Extensions referred to in this section apply only to the unavailability of E-Application. If e-Application is available, and, for any reason, you are unable to submit your application electronically or you do not receive an automatic acknowledgment of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the following address: U.S. Department of Education, Application Control Center, Attention: (CFDA Number 84.326M), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326M), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper

Applications:

If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children With Disabilities program. These measures focus on the extent to which projects provide high quality products and services, the relevance of project products and services to educational and early intervention policy and practice, and the use of products and services to improve educational and early intervention policy and practice.

Grantees will be required to provide information related to these measures in annual reports to the Department.

Grantees also will be required to report information on their project's performance in annual reports to the Department (34 CFR 75.590).

VII. Agency Contact

FOR FURTHER INFORMATION CONTACT: Corinne Weidenthal, U.S. Department of Education, 400 Maryland Avenue, SW., room 4120, Potomac Center Plaza (PCP), Washington, DC 20202-2550. Telephone: (202) 245-6529.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Andrew J. Pepin, Executive Administrator for Special Education and Rehabilitative Services to perform the functions of the Assistant Secretary for Special Education and Rehabilitative Services.

Dated: July 8, 2009.
Andrew J. Pepin,
Executive Administrator for Special Education and Rehabilitative Services.

[FR Doc. E9-16549 Filed 7-10-09; 8:45 am]

BILLING CODE 4000-01-P